OFFICE OF SCIENCE AND TECHNOLOGY POLICY

Request for Information; Draft National Strategy on Microelectronics Research

AGENCY: Office of Science and Technology Policy (OSTP).

ACTION: Notice of Request for Information (RFI).

SUMMARY: The White House Office of Science and Technology Policy, on behalf of the Subcommittee on Microelectronics Leadership (SML) of the National Science and Technology Council (NSTC), requests comments from the public on the Draft National Strategy on Microelectronics Research (referred to in this document as “the Draft National Strategy”) and some specific questions relevant to that strategy. The Draft National Strategy is posted at https://www.whitehouse.gov/wp-content/uploads/2022/09/SML-DRAFT-Microlectronics-Strategy-For-Public-Comment.pdf. This draft is being released at an intermediate, development stage for the sole and limited purpose to collect public input to inform the work of the SML as it develops the final National Strategy.

DATES: Interested persons and organizations are invited to submit comments on or before 5:00 p.m. ET, October 17, 2022.

ADDRESSES: You may submit comments by any of the following methods:

• Email (preferred): microelectronics_strategy@ostp.eop.gov, include Response to SML RFI on Draft Report in the subject line of the message.

• Mail: Attn: NSTC Subcommittee on Microelectronics Leadership, Office of Science and Technology Policy, Eisenhower Executive Office Building, 1650 Pennsylvania Ave. NW, Washington, DC 20504.

Instructions: Response to this request for public comment is voluntary. Each individual or institution is requested to submit only one response. Respondents may answer as many or as few questions as they wish. Comments of approximately 5 pages or less in length (up to 10,000 characters) are requested. Electronic responses must be provided as attachments to an email rather than a link. When referencing particular sections of the draft document, please refer to the relevant line number in responses. OSTP will not respond to individual submissions. Responses should include the name of the person(s) or organization(s) filing the response. Responses containing references, studies, research, and other empirical data that are not widely published should include copies of or electronic links to the referenced materials. Responses containing profanity, vulgarity, threats, or other inappropriate language or content will not be considered.

This Request for Public Comment is not accepting applications for financial assistance or financial incentives. OSTP may post responses to this request for public comment without change, online. OSTP therefore requests that no business proprietary information, copyrighted information, or personally identifiable information be submitted in response to this Request for Public Comment. Please note that the U.S. Government will not pay for response preparation, or for the use of any information contained in the response. Comments submitted in response to this notice are subject to the Freedom of Information Act (FOIA).

FOR FURTHER INFORMATION CONTACT: Corey Stambaugh (Executive Secretary for the SML) at microelectronics_strategy@ostp.eop.gov or (202) 456-4444.

SUPPLEMENTARY INFORMATION:

Overview: Section 9906(a)(3)(A)of the William M. (Mac) Thornberry National Defense Authorization Act for Fiscal Year 2021 (Public Law 116-283) (included in Title XCIX, “Creating Helpful Incentives to Produce Semiconductors (CHIPS) for America”), established the Subcommittee on Microelectronics Research (SML) and charged the Subcommittee with the development of a national strategy on microelectronics research, development, manufacturing, and supply chain security. The National Strategy on Microelectronics Research (“National Strategy”) is being developed to address approaches to prioritize research and development (R&D) to advance microelectronics, to grow the workforce, to leverage and connect the broader R&D infrastructure, including the Federal laboratories, enhance public-private partnerships and international engagement, and develop activities that address future challenges to the innovation, competitiveness, and supply chain security of the United States in the field of microelectronics. The SML is seeking input from stakeholders from across the entire microelectronics ecosystem, including industry, academia, and non-profits, to guide this effort.

The final National Strategy will seek to ensure that advances in microelectronics R&D and their applications to agency missions and the broader national interest continue unabated in this critical field. The strategy will provide guidance for agency leaders, program managers, and the research community regarding planning and implementation of microelectronics R&D investments and activities and ensure they are synergistic with the broader CHIPS legislation and activities.

The Draft National Strategy identifies three main goals with underlining strategic objectives:

• Goal 1. Fuel Discoveries for Future Generations of Microelectronics

• Goal 2. Expand, Train, and Support the Workforce

• Goal 3. Facilitate the Rapid Transition of R&D to U.S. Industry

OSTP seeks comment from the public on the Draft National Strategy with a focus on the following questions:

1. Does the Draft National Strategy capture the key R&D areas that will support future generations of microelectronics? If not, what additional areas of R&D focus are required?

2. What additional approaches should be considered to develop and expand the microelectronics workforce at all levels, including advanced degrees?

3. Are there additional mechanisms that should be considered to ensure rapid transition of R&D to industry?

4. Do you have any additional suggestions on how the final National Strategy can help ensure the success of the broader CHIPS efforts and ensure continued U.S. leadership in this important area?

The Draft National Strategy is not a commitment to any strategy, policy, funding, or plan and it has not been approved for final publication by the NSTC or any part of the United States Government. The contents of this draft document and the strategy may change in its entirety or in part prior to final publication based on the feedback that we receive.

File: https://www.whitehouse.gov/wp-content/uploads/2022/09/SML-DRAFT-Microlectronics-Strategy-For-Public-Comment.pdf.

Dated: September 12, 2022.
Stacy Murphy,
Operations Manager.

[FR Doc. 2022-19935 Filed 9-14-22; 8:45 am]

BILLING CODE 3270-F2-P